FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010979-057.

Title: Caribbean Shipowners Association.

Parties: CMA CGM, S.A.; Crowley Caribbean Services LLC; Hybur Ltd.; King Ocean Services Limited; Seaboard Marine, Ltd.; Seafreight Line, Ltd.; Tropical Shipping and Construction Company Limited; and Zim Integrated Shipping Services, Ltd.

Filing Party: Wayne R. Rohde, Esq.; Cozen O'Connor, 1627 I Street, NW; Washington, DC 20006.

Synopsis: The amendment deletes Saint Barthelemy and both the French and Dutch portions of St. Martin from the geographic scope of the agreement.

Agreement No.: 012224.

Title: Seaboard/King Ocean Space Charter Agreement.

Parties: Seaboard Marine, Ltd. and King Ocean Services Limited, Inc.

Filing Party: Wayne R. Rohde, Esq.; Cozen O'Connor; 1627 I Street NW., Suite 1100; Washington, DC 20006.

Synopsis: The agreement would authorize Seaboard to charter space to King Ocean in the trade between Miami and Port Everglades on the one hand, and ports on the Caribbean/Atlantic Coast of Costa Rica and Panama, on the other hand.

Agreement No.: 012225.

Title: King Ocean/Seaboard Space Charter Agreement.

Parties: Seaboard Marine, Ltd. and King Ocean Services Limited, Inc.

Filing Party: Wayne R. Rohde, Esq.; Cozen O'Connor; 1627 I Street NW., Suite 1100; Washington, DC 20006.

Synopsis: The agreement would authorize King Ocean to charter space to Seaboard in the trade between Port Everglades on the one hand, and ports in Aruba and Curacao, on the other hand.

Agreement No.: 012226.

Title: ELJSA-Hanjin Vessel Sharing Agreement.

Parties: Evergreen Line Joint Service Agreement and Hanjin Shipping Co., Ltd.

Filing Party: Robert B. Yoshitomi, Esq., Nixon Peabody LLP, Gas Company Tower, 555 West Fifth Street 46th Floor, Los Angeles, CA 90013.

Synopsis: The agreement authorizes Evergreen and Hanjin to share vessels and exchange slots in the trades between Korea, China, and Japan, on the one hand, and the U.S. West Coast, on the other hand.

By Order of the Federal Maritime Commission.
Dated: September 20, 2013.
Karen V. Gregory,
Secretary.

[FR Doc. 2013-23403 Filed 9-25-13; 8:45 am]

BILLING CODE 6730-01-P